DEPARTMENT OF THE INTERIOR

National Park Service

[NPS-WASO-D-COS-POL-31176; PPWODIREP0; PPMPSAS1Y.YP0000]

Request for Nominations for the National Park System Advisory Board

AGENCY: National Park Service, Interior.

ACTION: Notice.

SUMMARY: The National Park Service, U.S. Department of the Interior, is seeking nominations for individuals to be considered for appointment to the National Park System Advisory Board (Board). The Board advises the Secretary of the Interior (Secretary) and the Director of the National Park Service (Director) on matters relating to the National Park Service (NPS), the National Park System, and programs administered by the NPS; the designation of National Historic Landmarks and National Natural Landmarks; and the national historic significance of proposed National Historic Trails. The Board is currently established as a discretionary committee by authority of the Secretary under 54 U.S.C. 100906 and is expected to continue into the distant future. The Board is regulated by the Federal Advisory Committee Act (FACA).

DATES: Nominations must be postmarked by December 7, 2020.

ADDRESSES: Nominations should be emailed to Joshua Winchell, Office of Policy, National Park Service, at joshua_winchell@nps.gov.

FOR FURTHER INFORMATION CONTACT: Joshua Winchell, Office of Policy, National Park Service, 1849 C Street, NW, Mail Stop 2659, Washington, DC 20240, telephone number 202-641-4467, or email joshua_winchell@nps.gov.

SUPPLEMENTARY INFORMATION: The purpose of the Board is to provide advice to the Secretary and the Director on matters relating to the NPS, the National Park System, and programs administered by the NPS, including programs administered pursuant to 54 U.S.C. 320101; designation of National Historic Landmarks and National Natural Landmarks; and the national historic significance of proposed National Historic Trails pursuant to the National Trails System Act (16 U.S.C. 1244(b)(3)). The Board also may advise on matters submitted by the Director. The Board shall be comprised of no more than 12 persons, appointed from among citizens of the United States having a demonstrated commitment to the mission of the NPS. Board members shall be selected to represent various geographic regions across the United States of America.

We are requesting nominations to fill vacancies for Board members in the categories listed below:

(1) Persons who have outstanding expertise in the physical and/or social sciences, such as history or geography; archeology or anthropology; historical or landscape architecture; or biology, ecology, geology, or marine sciences;

(2) persons having outstanding experience in the management of national or state parks; forests, wildlife refuges, or other protected natural areas; historic areas or sites; or have an extensive background in natural or cultural resources management.

(3) persons having outstanding expertise in professional or scientific disciplines that are important to the mission of the National Park Service, such as financial management or business development; historical or recreational land use management or planning; or business management, marketing or entrepreneurship.

Nominations should be typed and must include a resume providing an adequate description of the nominee's qualifications, including information that would enable the Department of the Interior to make an informed decision regarding meeting the membership requirements of the Board and permit the Department of the Interior to contact a potential member.

Board members will be appointed as special Government employees (SGEs). Please be aware that members selected to serve as SGEs will be required, prior to appointment, to file a Confidential Financial Disclosure Report in order to avoid involvement in real or apparent conflicts of interest. You may find a copy of the Confidential Financial Disclosure Report at the following website: https://www.doi.gov/ethics/special-government-employees/financial-disclosure. Additionally, after appointment, members appointed as SGEs will be required to meet applicable financial disclosure and ethics training requirements. Please contact 202-208-7960 or DOI_Ethics@sol.doi.gov with any questions about the ethics requirements for members appointed as SGEs.

Members serve without compensation. However, while away from their homes or regular places of business in the performance of services for the Board as approved by the Designated Federal Officer, members are allowed travel expenses, including per diem in lieu of subsistence, in the same manner as persons employed intermittently in Government service are allowed such expenses under 5 U.S.C. 5703.

Public Disclosure of Information: Before including your address, phone number, email address, or other personal identifying information with your nomination, you should be aware that your entire nomination—including your personal identifying information—may be made publicly available at any time. While you can ask us in your nomination to withhold your personal identifying information from public review, we cannot guarantee that we will be able to do so.

Authority: 5 U.S.C. Appendix 2.

Alma Ripps,
Chief, Office of Policy.

[FR Doc. 2020-25683 Filed 11-19-20; 8:45 am]

BILLING CODE 4312-52-P